CIVIL RIGHTS COMMISSION

Sunshine Act Meeting Notice

AGENCY: United States Commission on Civil Rights.

ACTION: Notice of Commission public briefing, Are Rights a Reality? Evaluating Federal Civil Rights Enforcement.

DATES: Friday, November 2, 2018, 9:00 a.m. ET.

ADDRESSES: Place: National Place Building, 1331 Pennsylvania Ave. NW, 11th Floor, Suite 1150, Washington, DC 20245 (Entrance on F Street NW).

FOR FURTHER INFORMATION CONTACT: Brian Walch, (202) 376-8371; TTY: (202) 376-8116; publicaffairs@usccr.gov.

SUPPLEMENTARY INFORMATION: The U.S. Commission on Civil Rights will hold a public briefing to evaluate federal civil rights enforcement, examining in particular Fiscal Years 2016 through 2018. With this assessment, the Commission asks: What are the key elements for effective civil rights enforcement? Do federal agencies have sufficient resources to fulfill their enforcement responsibilities? Most importantly, is the federal government satisfying its obligation to the American people to protect and vindicate their civil rights, including in education, housing, healthcare, employment, policing, the justice system, and other areas?

Commissioners will hear from current and former senior federal government officials, academic and legal experts, and advocates. We will also offer an open comment session in which members of the public will be able to address the Commission (see below).

The Commission will issue a report from this investigation in fall 2019, including findings and recommendations.

This briefing is open to the public. The event will also live-stream at https://www.youtube.com/user/USCCR/videos. (Please note that streaming information is subject to change.) If attending in person, we ask that you RSVP to publicaffairs@usccr.gov. Persons with disabilities who need accommodation should contact Pamela Dunston at 202-376-8105 or at access@usccr.gov at least seven (7) business days before the date of the meeting.

We will offer an open comment session in which members of the public will be able to address the Commission. Detailed information on this open comment session will be announced on the Commission's website (www.usccr.gov), Twitter (www.twitter.com/USCCRgov), and Facebook (www.facebook.com/USCCRgov/) in advance of the briefing.

In addition, the Commission welcomes the submission of additional material for consideration as we prepare our report. Please submit such information to enforcement@usccr.gov no later than December 17, 2018.

Are Rights a Reality? Evaluating Federal Civil Rights Enforcement

Introductory Remarks: Chair Catherine E. Lhamon: 9:00 a.m.-9:10 a.m.

Panel One: Current and Former Federal Agency Officials, Larger Civil Rights Offices: 9:10 a.m.-10:40 a.m.

Panel Two: Current and Former Federal Agency Officials, Smaller Civil Rights Offices: 10:50 a.m.-12:10 p.m.

Panel Three: Advocates and Community Experts in Civil Rights Enforcement: 1:10 p.m.-2:30 p.m.

Panel Four: Academics and Legal Experts in Civil Rights Enforcement: 2:40 p.m.-4:00 p.m.

Open Public Comment Session: 5:00 p.m.-6:00 p.m.

Adjourn: 6:00 p.m.

Dated: October 17, 2018.
David Mussatt,
Supervisory Chief, Regional Programs Unit.

[FR Doc. 2018-22963 Filed 10-17-18; 11:15 am]

BILLING CODE 6335-01-P